DEPARTMENT OF TRANSPORTATION

Federal Aviation Administration

14 CFR Part 97

[Docket No. 29997; Amdt. No. 1988]

Standard Instrument Approach Procedures; Miscellaneous Amendments

AGENCY: Federal Aviation Administration (FAA), DOT.

ACTION: Final rule.

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAP's, mailed once every 2 weeks, are for sale by the Superintendent of Documents, U.S. Government Printing Office, Washington, DC 20402.

FOR FURTHER INFORMATION CONTACT: Donald P. Pate, Flight Procedures Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK. 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR). The applicable FAA Forms are identified as FAA Form 8260-5. Materials incorporated by reference are available for examination or purchase as stated above.

The large number of SIAP's, their complex nature, and the need for a special format make their verbatim publication in the Federal Register expensive and impractical. Further, airmen do not use the regulatory text of the SIAPs, but refer to their graphic depiction on charts printed by publishers or aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standards for Terminal Instrument Procedures (TERPS). In developing these SIAPs, the TERPS criteria were applied to the conditions existing or anticipated at the affected airports.

The FAA has determined through testing that current non-localizer type, non-precision instrument approaches developed using the TERPS criteria can be flown by aircraft equipped with a Global Positioning System (GPS) and or Flight Management System (FMS) equipment. In consideration of the above, the applicable SIAP's will be altered to include “or GPS or FMS” in the title without otherwise reviewing or modifying the procedure. (Once a stand alone GPS or FMS procedure is developed, the procedure title will be altered to remove “or GPS or FMS” from these non-localizer, non-precision instrument approach procedure titles.)

The FAA has determined through extensive analysis that current SIAP's intended for use by Area Navigation (RNAV) equipped-aircraft can be flow by aircraft utilizing various other types of navigational equipment. In consideration of the above, those SIAP's currently designated as “RNAV” will be redesignated as “VOR/DME RNAV” without otherwise reviewing or modifying the SIAP's.

Because of the close and immediate relationship between these SIAP's and safety in air commerce, I find that notice and public procedure before adopting these SIAPs are, impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on April 14, 2000.
L. Nicholas Lacey,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 continues to read:

Authority: 49 U.S.C. 106(g), 40103, 40106, 40113-40114, 40120, 44502, 44514, 44701, 44719, 44721-44722.

2. Amend 97.23, 97.27, 97.33 and 97.35, as appropriate, by adding, revising, or removing the following SIAP's, effective at 0901 UTC on the dates specified.

§§ 97.23, 97.27, 97.33, 97.35 [Amended]

* * * Effective June 15, 2000

Aniak, AK, Aniak, NDB/DME or GPS RWY 28, Amdt 2, CANCELLED

Aniak, AK, Aniak, NDB/DME RWY 28, Amdt 2

Ketchikan, AK, Ketchikan Intl, NDB/DME or GPS-A, Amdt 6B, CANCELLED

Ketchikan, AK, Ketchikan Int, NDB/DME-A, Amdt 6B

McGrath, AK, McGrath, NDB or GPS-B, Amdt 1, CANCELLED

McGrath, AK, McGrath, NDB-B, Amdt 1

St. George, AK, St. George, NDB/DME or GPS-A, Orig, CANCELLED

St. George, AK, St. George, NDB/DME-A, Orig

Sandpoint, AK, NDB/DME or GPS-B, Orig, CANCELLED

Sandpoint, AK, NDB/DME-B, Orig

Sitka, AK, Sitka Rocky Gutierrez, NDB/DME or GPS-B, Orig, CANCELLED

Sitka, AK, Sitka Rocky Gutierrez, NDB/DME-B, Orig

Decatur, AL, Decatur/Pryor Field Regional, VOR or GPS RWY 18, Amdt 12, CANCELLED

Decatur, AL, Decatur/Pryor Field Regional, VOR RWY 18, Amdt 12

Colusa, CA, Colusa County, VOR or GPS-A, Amdt 4B, CANCELLED

Colusa, CA, Colusa County, VOR-A, Amdt 4B

Logansport, IN, Logansport Muni, VOR/DME RNAV or GPS RWY 27, Amdt 3, CANCELLED

Logansport, IN, Logansport Muni, VOR/DME RNAV RWY 27, Amdt 3

Somerset, KY, Somerset-Pulaski County—J.T. Wilson Field, NDB or GPS RWY 4, Amdt 6, CANCELLED

Somerset, KY, Somerset-Pulaski County—J.T. Wilson Field, NDB RWY 4, Amdt 6

Monroe, LA, Monroe Regional, NDB or GPS RWY 4, Amdt 14B, CANCELLED

Monroe, LA, Monroe Regional, NDB RWY 4, Amdt 14B

Kansas City, MO, Kansas City Intl, NDB or GPS RWY 9, Amdt 8, CANCELLED

Kansas City, MO, Kansas City Intl, NDB RWY 9, Amdt 8

Meridian, MS, Meridian/Key Field, NDB or GPS RWY 1, Amdt 19, CANCELLED

Meridian, MS, Meridian/Key Field, NDB RWY 1, Amdt 19

Dickinson, ND, Dickinson Muni, NDB or GPS RWY 32, Orig, CANCELLED

Dickinson, ND, Dickinson Muni, NDB RWY 32, Orig

Santa Fe, NM, Santa Fe Muni, NDB or GPS RWY 2, Amdt 4, CACELLED

Santa Fe, NM, Santa Fe Muni, NDB RWY 2, Amdt 4

Middletown, NY, Middletown/Randall, NDB or GPS-A, Orig, CANCELLED

Middletown, NY, Middletown/Randall, NDB-A, Orig

El Paso, TX, El Paso Intl, VOR or GPS RWY 26L, Amdt 29B, CANCELLED

El Paso, TX, El Paso Int, VOR RWY 26L, Amdt 29B

Cheyenne, WY, Cheyenne, NDB or GPS RWY 26, Amdt 13, CANCELLED

Cheyenne, WY, Cheyenne, NDB RWY 26, Amdt 13

[FR Doc. 00-9833 Filed 4-18-00; 8:45 am]

BILLING CODE 4910-13-M